DEPARTMENT OF THE TREASURY

Internal Revenue Service

26 CFR Part 301

[REG-149036-04]

RIN 1545-BG75

Application of Section 6404(g) of the Internal Revenue Code Suspension Provisions; Correction

AGENCY: Internal Revenue Service (IRS), Treasury.

ACTION: Correction to notice of proposed rulemaking.

SUMMARY: This document contains corrections to the notice of proposed rulemaking (REG-149036-04) that were published in the Federal Register on Thursday, June 21, 2007 (72 FR 34199) proposing regulations for the suspension of interest, penalties, additions to tax or additional amounts under section 6404(g) of the Internal Revenue Code that explain the general rules for suspension as well as exceptions to those general rules.

FOR FURTHER INFORMATION CONTACT: Stuart Spielman, (202) 622-7950 (not a toll-free number).

SUPPLEMENTARY INFORMATION:

Background

The notice of proposed rulemaking that is the subject of this correction is under section 6404(g) of the Internal Revenue Code.

Need for Correction

As published, the proposed regulations (REG-149036-04) contain errors that may prove to be misleading and are in need of clarification.

Correction of Publication

Accordingly, the publication of the proposed regulations (REG-149036-04), which was the subject of FR Doc. E7-12082, is corrected as follows:

1. On page 34200, column 1, in the preamble, under the caption SUMMARY:, lines 4 and 5, the language “and the Tax Relief and Health Care Act of 2006. The proposed regulations affect” is corrected to read “the Tax Relief and Health Care Act of 2006, and the Small Business and Work Opportunity Tax Act of 2007. The proposed regulations affect”.

2. On page 34200, column 2, in the preamble, under the paragraph heading “Background”, line 8, the language “Law 110-28 (121 Stat. 112, 200),” is corrected to read “Law 110-28 (121 Stat. 190, 200),”.

LaNita Van Dyke,
Chief, Publications and Regulations Branch, Legal Processing Division, Associate Chief Counsel (Procedure and Administration).

[FR Doc. E7-14397 Filed 7-25-07; 8:45 am]

BILLING CODE 4830-01-P